SMALL BUSINESS ADMINISTRATION

Audit and Financial Management Advisory (AFMAC) Committee Notice of Cancellation of Public Meeting

The U.S. Small Business Administration, Audit and Financial Management Advisory Committee (AFMAC) federal meeting originally scheduled for Wednesday, April 18, 2007 has been cancelled. A new date and time for this meeting will be announced soon. If you have any questions, please contact Jennifer Main, Chief Financial Officer, 409 3rd Street, SW., 6th Floor, Washington, DC 20416, phone: (202) 205-6449, e-mail: Jennifer.Main@sba.gov.

Matthew Teague,
Committee Management Officer.

[FR Doc. E7-7030 Filed 4-12-07; 8:45 am]

BILLING CODE 8025-01-P